FEDERAL COMMUNICATIONS COMMISSION

47 CFR Part 73

[DA 04-3813; MB Docket No. 04-428, RM-11124]

Radio Broadcasting Services; Clatskanie, OR; Ilwaco and Long Beach, WA

AGENCY: Federal Communications Commission.

ACTION: Proposed rule.

SUMMARY: This document requests comments on a petition filed by Portmeirion Partners (“Petitioner”) proposing the allotment of Channel 225C3 at Clatskanie, Oregon, as the community's first local service. Channel 225C3 can be allotted to Clatskanie, consistent with the minimum distance separation requirements of the Commission's rules at a restricted site located 21.5 kilometers (13.3 miles) north of the community. The reference coordinates for Channel 225C3 at Clatskanie are 46-17-44 North Latitude and 123-14-13 West Longitude. Additionally, to accommodate the proposed allotment of Channel 225C3 at Clatskanie, Petitioner requests the substitution of Channel 259A for Channel 224A at Long Beach, California, and modification of the license for Station KAQX(FM) at its current transmitter site. An Order to Show Cause is issued to New Northwest Broadcasters, LLC, licensee of Station KAQX(FM), as requested. To accommodate the substitution at Long Beach, Petitioner also proposes the substitution of Channel 253A for Channel 259A at Ilwaco, Washington at its current reference coordinates.

DATES: Comments must be filed on or before January 24, 2005, and reply comments on or before February 8, 2005.

ADDRESSES: Federal Communications Commission, 445 Twelfth Street, SW., Washington, DC 20554. In addition to filing comments with the FCC, interested parties should serve the Petitioner's counsel, as follows: John J. McVeigh, Esq., 12101 Blue Paper Trail, Columbia, MD 21044-2787.

FOR FURTHER INFORMATION CONTACT: Helen McLean, Media Bureau, (202) 418-2738.

SUPPLEMENTARY INFORMATION: This is a summary of the Commission's Notice of Proposed Rulemaking, MB Docket No. 04-428, adopted December 1, 2004, and released December 3, 2004. The full text of this Commission decision is available for inspection and copying during normal business hours in the Commission's Reference Center 445 Twelfth Street, SW., Washington, DC 20554. This document may also be purchased from the Commission's duplicating contractors, Best Copy and Printing, Inc., 445 12th Street, SW., Room CY-B402, Washington, DC 20554, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Oregon, is amended by adding Clatskanie, Channel 225C3.

3. Section 73.202(b), the Table of FM Allotments under Washington, is amended removing Channel 224A and by adding Channel 259A at Long Beach and by removing Channel 259A and by adding Channel 253A at Ilwaco.

Federal Communications Commission.
John A. Karousos,
Assistant Chief, Audio Division, Media Bureau.

[FR Doc. 04-27447 Filed 12-14-04; 8:45 am]

BILLING CODE 6712-01-P